DEPARTMENT OF STATE

[Public Notice 4099]

Foreign Service Institute; 30-Day Notice of Proposed Information Collection: Form DS-3083, Training Registration (for Non-U.S. Government Persons); OMB Control #1405-XXXX

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: New collection.

Originating Office: Foreign Service Institute (M/FSI).

Title of Information Collection: Training Registration (For Non-U.S. Government Persons).

Frequency: Continuously (as needed for covered individuals to enroll in training courses provided by the Foreign Service Institute, Department of State).

Form Number: DS-3083.

Respondents: Respondents are non-U.S. government persons and/or their eligible family members, authorized by Public Law 105-277 to receive training delivered by the Foreign Service Institute on a reimbursable or advance of funds basis.

Estimated Number of Respondents: Approximately 100 to 200 persons per year.

Average Hours Per Response: 0.5 hours (one-half hour).

Total Estimated Burden: Approximately 50 to 100 hours/year.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from the Wayne A. Oshima, Foreign Service Institute, Office of the Executive Director, U.S. Department of State, Washington, DC 20522-4201, (703) 302-6730. Public comments and questions should be directed to the State Department Desk Officer, Office of Information and Regulatory Affairs, Office of Management and Budget (OMB), Washington, DC 20530, who may be reached on 202-395-3897.

Dated: July 23, 2002.
Catherine J. Russell,
Executive Director, Foreign Service Institute, Department of State.

[FR Doc. 02-21000 Filed 8-16-02; 8:45 am]

BILLING CODE 4710-34-P